COMMITTEE FOR THE IMPLEMENTATION OF TEXTILE AGREEMENTS

Designations under the Textile and Apparel Commercial Availability Provision of the African Growth and Opportunity Act (AGOA)

October 8, 2003.

AGENCY: The Committee for the Implementation of Textile Agreements (The Committee).

ACTION: Determination

SUMMARY: The Committee has determined that certain fabrics, enumerated below, for use in men's and boys' shirts, cannot be supplied by the domestic industry in commercial quantities in a timely manner under the AGOA. The Committee hereby designates such apparel articles that are both cut and sewn or otherwise assembled in an eligible country from these fabrics as eligible for quota-free and duty-free treatment under the textile and apparel commercial availability provisions of the AGOA, and eligible under the Harmonized Tariff Schedule of the United States (HTSUS) subheading 9819.11.24 to enter free of quotas and duties, provided all other fabrics are U.S. formed from yarns wholly formed in the U.S.

EFFECTIVE DATE: October 15, 2003.

FOR FURTHER INFORMATION CONTACT: Janet E. Heinzen, Office of Textiles and Apparel, U.S. Department of Commerce, (202) 482-3400.

SUPPLEMENTARY INFORMATION:

Authority: Section 112(b)(5)(B) of the AGOA and Presidential Proclamation 7350 of October 2, 2000; Executive Order No. 13191 of January 17, 2001.

BACKGROUND:

The commercial availability provision of the AGOA provides for duty-free and quota-free treatment for apparel articles that are both cut (or knit-to-shape) and sewn or otherwise assembled in one or more beneficiary sub-Saharan African countries from fabric or yarn that is not formed in the United States if it has been determined that such yarns or fabrics cannot be supplied by the domestic industry in commercial quantities in a timely manner and certain procedural requirements have been met. In Presidential Proclamation 7350, the President proclaimed that this treatment would apply to such apparel articles from fabrics or yarns designated by the appropriate U.S. government authority in the Federal Register. In Executive Order 13191, the President authorized the Committee to determine whether particular yarns or fabrics cannot be supplied by the domestic industry in commercial quantities in a timely manner under the AGOA.

On June 2, 2003, the Committee received a request alleging that certain fabrics, listed below, for use in men's and boys' shirts, cannot be supplied by the domestic industry in commercial quantities in a timely manner under the AGOA. It requested that apparel articles from such fabrics be eligible for preferential treatment under the AGOA. On June 6, 2003, the Committee requested public comment on the petition (68 FR 33922). On June 23, 2003, the Committee and the U.S. Trade Representative (USTR) sought the advice of the Industry Sector Advisory Committee for Wholesaling and Retailing and the Industry Sector Advisory Committee for Textiles and Apparel. On June 23, 2003, the Committee and USTR offered to hold consultations with the Committee on Ways and Means of the House of Representatives and the Committee on Finance of the Senate (collectively, the Congressional Committees). On July 14, 2003, the U.S. International Trade Commission provided advice on the petition. Based on the information and advice received and its understanding of the industry, the Committee determined that the fabrics set forth in the request cannot be supplied by the domestic industry in commercial quantities in a timely manner. On July 30, 2003, the Committee and USTR submitted a report to the Congressional Committees that set forth the action proposed, the reasons for such action, and advice obtained. A period of 60 calendar days since this report was submitted has expired, as required by the AGOA.

The Committee hereby designates as eligible for preferential treatment under subheading 9819.11.24 of the HTSUS, men's and boys' shirts, that are both cut and sewn or otherwise assembled in one or more eligible beneficiary sub-Saharan African countries, from the fabrics set forth below, not formed in the United States, provided that all other fabrics are wholly formed in the United States from yarns wholly formed in the United States, that are imported directly into the customs territory of the United States from an eligible beneficiary sub-Saharan African country.

An “eligible beneficiary sub-Saharan African country” means a country which the President has designated as a beneficiary sub-Saharan African country under section 506A of the Trade Act of 1974 (19 U.S.C. 2466a) and which has been the subject of a finding, published in the Federal Register, that the country has satisfied the requirements of section 113 of the AGOA (19 U.S.C. 3722) and resulting in the enumeration of such country in U.S. note 1 to subchapter XIX of chapter 98 of the HTSUS.

Fabrics named in the request:

(a) Fabrics of subheadings 5208.21, 5208.22, 5208.29, 5208.31, 5208.32, 5208.39, 5208.41, 5208.42, 5208.49, 5208.51, 5208.52 or 5208.59, of average yarn number exceeding 135 metric;

(b) Fabrics of subheadings 5513.11 or 5513.21, not of square construction, containing more than 70 warp ends and filling picks per square centimeter, of average yarn number exceeding 135 metric;

(c) Fabrics of subheadings 5210.21 or 5210.31, not of square construction, containing more than 70 warp ends and filling picks per square centimeter, of average yarn number exceeding 135 metric;

(d)Fabrics of subheadings 5208.22 or 5208.32, not of square construction, containing more than 75 warp ends and fillings picks per square centimeter, of average yarn number exceeding 135 metric;

(e) Fabrics of subheadings 5407.81, 5407.82 or 5407.83, weighing less than 170 grams per square meter, having a dobby weave created by a dobby attachment, of average yarn number exceeding 135 metric;

(f) Fabrics of subheadings 5208.42 or 5208.49, not of square construction, containing more than 85 warp ends and filling picks per square centimeter, of average yarn number exceeding 85 metric, or exceeding 135 metric if the fabric is of oxford construction (a modified basket weave with a large filling yarn having no twist woven under and over two single, twisted warp yarns);

(g) Fabrics of subheading 5208.51, of square construction, containing more than 75 warp ends and filling picks per square centimeter, made with single yarns, of average yarn number 95 or greater metric;

(h) Fabrics of subheading 5208.41, of square construction, with a gingham pattern, containing more than 85 warp ends and filling picks per square centimeter, made with single yarns, of average yarn number 135 or greater metric, and characterized by a check effect produced by the variation in color of the yarns in the warp and filling;

(i) Fabrics of subheading 5208.41, with the warp colored with vegetable dyes, and the filling yarns white or colored with vegetable dyes, of average yarn number greater than 65 metric.

Philip J. Martello,
Acting Chairman, Committee for the Implementation of Textile Agreements.

[FR Doc.03-26015 Filed 10-14-03; 8:45 am]

BILLING CODE 3510-DR-S